NUCLEAR REGULATORY COMMISSION

[Docket 72-17]

Portland General Electric Company; Issuance of Environmental Assessment and Finding of No Significant Impact Regarding the Proposed Amendment to Materials License No. SNM-2509

The U. S. Nuclear Regulatory Commission (NRC or Commission) is considering issuance of an amendment, pursuant to 10 CFR 72.56, to Special Nuclear Material License No. 2509 (SNM-2509) held by Portland General Electric Company (PGE) for the Trojan independent spent fuel storage installation (ISFSI). The requested amendment would revise the ISFSI license (SNM-2509) and the Technical Specifications (TS) of SNM-2509 to specifically permit the use of portions of the Holtec International dry storage cask system to store spent fuel at the Trojan ISFSI.

Environmental Assessment (EA)

Identification of Proposed Action: By letter dated October 26, 2001, as supplemented, PGE requested an amendment to revise the license (SNM-2509) and the TS of SNM-2509 for the Trojan ISFSI. The changes would specifically permit the use of the Holtec International Multi-Purpose Canister (MPC) to store spent fuel. The Holtec International MPC is proposed to be compatible, with minor modification, to the pre-existing TranStor concrete cask design at the Trojan ISFSI currently designed for use with the TranStor pressurized water reactor fuel (PWR) basket. This amendment requests the TranStor PWR basket design be supplanted with the Holtec International MPC design. No changes to the specifications for the fuel to be stored at the Trojan ISFSI were requested.

Need for the Proposed Action: The proposed action is necessary to allow for storage of spent fuel in dry casks. PGE was licensed to use the TranStor Storage System for SNF comprised of the concrete cask and PWR basket. The PWR basket design was subsequently determined to be unusable. Without this amendment PGE will be unable to load spent nuclear fuel (SNF) at the Trojan site. If unable to store SNF, PGE will not be able to continue decommissioning of the Trojan site unless an alternative means for storing SNF is found.

Environmental Impacts of the Proposed Action: In 1999 the NRC issued a license to PGE to construct and operate the Trojan ISFSI. Prior to this action the NRC examined the environmental impacts of constructing and operating the Trojan ISFSI and issued an environmental assessment and finding of no significant impact. See 61 FR 64378, December 4, 1996. The NRC has completed its evaluation of the proposed action and concludes that granting the request for amendment to allow the storage of spent fuel assemblies using the TranStor concrete cask and Holtec International MPC, will not increase the probability or consequence of accidents beyond that bounded by previous analysis. No changes are being made in the types of any effluents that may be released offsite. With regard to radiological impacts, the change from the TranStor PWR basket design to the Holtec International MPC design will yield an increase in neutron and gamma dose rates at the cask surface. However, the dose rates remain below regulatory limits for occupational exposures and public radiation exposures. Moreover, the dose rates comply with the applicable regulatory criteria specified in 10 CFR part 20, and 10 CFR 72.104 and 72.106. As a result, there are no significant radiological environmental impacts associated with the proposed action.

The amendment only affects the requirements associated with the design of the fuel basket and does not affect non-radiological plant effluents or any other aspects of the environment. Therefore, there are no significant non-radiological environmental impacts associated with the proposed action.

Accordingly, the Commission concludes that there are no significant environmental impacts associated with the proposed action.

Alternative to the Proposed Action: The alternative to the proposed action would be to deny the request for amendment (i.e., the “no-action” alternative). Denial of the proposed action would result in PGE continuing to store SNF in the Trojan spent fuel storage pool. Without dry cask storage, PGE would be unable to continue with decommissioning of the Trojan site. The Trojan Nuclear Power Plant has been permanently shut down. Delaying decommissioning of the Trojan site and maintaining the SNF in the spent fuel storage pool could potentially lead to greater occupational exposure than dry cask storage due to the proximity of workers to the fuel. The environmental impacts of the alternative action could be greater than the proposed action.

Given that the alternative action of denying the approval for amendment has no lesser environmental impacts associated with it, and considering that the proposed action would result in storage of fuel at the Trojan ISFSI, which has already been approved under a site specific license, the Commission concludes that the preferred alternative is to grant this amendment.

Agencies and Persons Consulted: On September 17, 2002, Mr. Adam Bless of the Oregon Office of Energy, Energy Resources Division, was contacted regarding the proposed action and had no concerns.

Finding Of No Significant Impact

The environmental impacts of the proposed action have been reviewed in accordance with the requirements set forth in 10 CFR part 51. Based upon the foregoing Environmental Assessment, the Commission finds that the proposed action of granting an amendment to permit the use of the Holtec International MPC and the TranStor concrete cask to store SNF at the Trojan ISFSI will not significantly impact the quality of the human environment. Accordingly, the Commission has determined not to prepare an environmental impact statement for the proposed amendment.

For further details with respect to this amendment, see the application dated October 26, 2001, which is available for public inspection at the Commission's Public Document Room, One White Flint North Building, 11555 Rockville Pike, Rockville, MD or from the publically available records component of NRC's Agencywide Documents Access and Management System (ADAMS) under Accession No. ML013060075. The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1 (800) 397-4209, (301) 415-4737 or by email to pdr@nrc.gov.

Dated at Rockville, Maryland, this 4th day of October, 2002.
For the Nuclear Regulatory Commission.
E. William Brach,
Director, Spent Fuel Project Office, Office of Nuclear Material Safety and Safeguards.

[FR Doc. 02-25991 Filed 10-10-02; 8:45 am]

BILLING CODE 7590-01-P